DEPARTMENT OF TRANSPORTATION

Federal Aviation Administration

Fortieth (40th) Meeting, RTCA Special Committee 186 Automatic Dependent Surveillance-Broadcast (ADS-B)

AGENCY: Federal Aviation Administration (FAA), DOT.

ACTION: Notice of RTCA Special Committee 186 Automatic Dependent Surveillance-Broadcast (ADS-B) meeting.

SUMMARY: The FAA is issuing this notice to advise the public of a meeting of RTCA Special Committee 186 Automatic Dependent Surveillance—Broadcast (ADS-B).

DATES: The meeting will be held May 14-18, 2007, at 9 a.m. (Unless Otherwise noted).

ADDRESSES: The meeting will be held at RTCA, Inc., 1828 L Street, NW., Suite 805 Washington, DC 20036.

FOR FURTHER INFORMATION CONTACT: (1) RTCA Secretariat (Hal Moses), 1828 L Street, NW., Suite 805, Washington, DC 20036, (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting. The agenda will include:

• May 14:

• All Day, CDTI Subgroup, ARINC Room.

• May 15:

• All Day, ASSAP Subgroup, MacIntosh-NBAA & Hilton-ATA Rooms.

• All Day, CDTI Subgroup, Colson Board Room.

• May 16:

• All Day, ASSAP Subgroup, MacIntosh-NBAA & Hilton-ATA Room.

• All Day, CDTI Subgroup, ARINC Room.

• May 17:

• Working Groups May Meet After the Plenary Adjourns.

• Opening Plenary Session (Welcome and Introductory Remarks, review of meeting agenda).

• Review/Approval of the Thirty-Ninth Meeting Summary, RTCA paper No. 104-07/SC186-247.

• Date, Place, and Time of Next Meeting.

• ADS-B Program Status.

• Working Group Reports.

• WG-1—Operations and Implementation.

• WG-2—TIS-B MASPS.

• WG-3—1090 MHz MOPS.

• WG-4—Applications Technical Requirements.

• WG-5—UAT MOPS.

• Closing Plenary Session (New/Other Business, Review Actions Items/Work Program, Adjourn).

• May 18:

• All Day, Working Group 1—Operations and Implementation, Surface.

• Alerting Discussion, MacIntosh—NBAA & Hilton-ATA Rooms.

• ASSAP Subgroup, 09:00-Mid-Afternoon, Colson Board Room.

• Note:

• AD—Application Development.

• ASAS—Aircraft Surveillance Applications System.

• ASSAP—Airborne Surveillance & Separation Assurance Processing.

• CDTI—Cockpit Display of Traffic Information.

• MASPS—Minimum Aviation System Performance Standards.

• MPOS—Minimum Operational Performance Standards.

• NRA—Non-Radar Airspace.

• RFG—Requirements Focus Group.

• STP—Surveillance Transmit Processing.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 20, 2007.
Francisco Estrada C.,
RTCA Advisory Committee.

[FR Doc. 07-2079 Filed 4-26-07; 8:45 am]

BILLING CODE 4910-13-M